SECURITIES AND EXCHANGE COMMISSION

[Release No. 34-78701; File No. SR-CTA/CQ-2016-01]

Consolidated Tape Association; Notice of Filing and Immediate Effectiveness of Amendment No. 26 to the Second Restatement of the CTA Plan and Amendment No. 19 to the Restated CQ Plan To Add the Investors Exchange LLC as a Participant

August 26, 2016.

Pursuant to Section 11A(a)(3) of the Securities Exchange Act of 1934 (“Exchange Act”) ¹ and Rule 608 thereunder,² notice is hereby given that on August 11, 2016 the Participants in the Second Restatement of the Consolidated Tape Association (“CTA”) Plan and the Restated Consolidated Quotation (“CQ”) Plan (“CTA/CQ Plans”) ³ filed with the Securities and Exchange Commission (“Commission”) ⁴ an amendment to the Plans to add Investors Exchange LLC (“IEX”) as a Participant ⁵ to the Plans. The Commission is publishing this notice to solicit comments on the amendment from interested persons.

¹ 15 U.S.C 78k-1(a)(3).

² 17 CFR 242.608.

³ See Securities Exchange Act Release Nos. 10787 (May 10, 1974), 39 FR 17799 (May 20, 1974) (declaring the CTA Plan effective); 15009 (July 28, 1978), 43 FR 34851 (August 7, 1978) (temporarily authorizing the CQ Plan); and 16518 (January 22, 1980), 45 FR 6521 (January 28, 1980) (permanently authorizing the CQ Plan). The most recent restatement of both Plans was in 1995.

⁴ See Letter from Emily Kasparov, Chairman, Operating Committee, CTA/CQ Plan, to Brent J. Fields, Secretary, Securities and Exchange Commission, dated August 10, 2016.

⁵ The term “Participant” is defined as a party to the Plan.

I. Description and Purpose of the Plan Amendment

As noted above, the amendment to the Plans adds the IEX as a Participant. On June 17, 2016, the Commission issued an order granting IEX's application for registration as a national securities exchange.⁶ A condition of the Commission's approval was the requirement for IEX to join the Plans.

⁶ See Securities Exchange Act Release No. 78101 (June 17, 2016), 81 FR 41141 (June 23, 2016).

Under Section III(c) of the Plan, any national securities association or national securities exchange, may become a Participant by (i) subscribing to, and submitting for filing with the Commission, the Plan; (ii) executing all applicable contracts made pursuant to the Plan, or necessary to its participation; (iii) paying the applicable “Participation Fee;” and (iv) paying “provisioning costs to the Processor.” The amendment is effective upon filing with the Commission in accordance with Rule 608 of Regulation NMS.⁷

⁷ The parallel provision in the CQ Plan is Section III(c).

IEX has satisfied all requirements under the Plans, and has executed a copy of the Plans currently in effect, with the only change being the addition of its name to the CTA and CQ plans. Accordingly, all of the Plan requirements for effecting an amendment to the Plans to add IEX as a Participant have been satisfied.

II. Effectiveness of the Proposed Plan Amendment

The foregoing Plan amendments have become effective pursuant to Rule 608(b)(3)(iii) of the Exchange Act ⁸ because they involve solely technical or ministerial matters. At any time within sixty days of the filing of this amendment, the Commission may summarily abrogate the amendment and require that it be refiled pursuant to paragraph (a)(1) of Rule 608,⁹ if it appears to the Commission that such action is necessary or appropriate in the public interest, for the protection of investors, or the maintenance of fair and orderly markets, to remove impediments to, and perfect the mechanisms of, a national market system or otherwise in furtherance of the purposes of the Exchange Act.

⁸ 17 CFR 242.608(b)(3)(iii).

⁹ 17 CFR 242.608(a)(1).

III. Solicitation of Comments

Interested persons are invited to submit written data, views and arguments concerning the foregoing, including whether the amendment is consistent with the Exchange Act. Comments may be submitted by any of the following methods:

Electronic Comments

• Use the Commission's Internet comment form (http://www.sec.gov/rules/sro.shtml); or

• Send an email to rule-comments@sec.gov. Please include File Number SR-CTA/CQ-2016-01 on the subject line.

Paper Comments

• Send paper comments in triplicate to Brent J. Fields, Secretary, Securities and Exchange Commission, 100 F Street NE., Washington, DC 20549-1090.

All submissions should refer to File Number SR-CTA/CQ-2016-01.This file number should be included on the subject line if email is used. To help the Commission process and review your comments more efficiently, please use only one method. The Commission will post all comments on the Commission's Internet Web site (http://www.sec.gov/rules/sro.shtml). Copies of the submission, all subsequent amendments, all written statements with respect to the proposed plan amendment that are filed with the Commission, and all written communications relating to the amendment between the Commission and any person, other than those that may be withheld from the public in accordance with the provisions of 5 U.S.C. 552, will be available for Web site viewing and printing in the Commission's Public Reference Room, 100 F Street NE., Washington, DC 20549, on official business days between the hours of 10:00 a.m. and 3:00 p.m. Copies of such filing also will be available for inspection and copying at the principal office of the Chicago Stock Exchange. All comments received will be posted without change; the Commission does not edit personal identifying information from submissions. You should submit only information that you wish to make available publicly. All submissions should refer to File Number SR-CTA/CQ-2016-01 and should be submitted on or before September 22, 2016.

By the Commission.
Brent J. Fields,
Secretary.

[FR Doc. 2016-21022 Filed 8-31-16; 8:45 am]

BILLING CODE 8011-01-P